ENVIRONMENTAL PROTECTION AGENCY

[EPA-HQ-OA-2025-0261, FRL-12857-01-OA]

Request for Nominations to the Children's Health Protection Advisory Committee (CHPAC)

AGENCY: Environmental Protection Agency (EPA).

ACTION: Notice; request for nominations.

SUMMARY: The U.S. Environmental Protection Agency (EPA) invites nominations from a range of qualified candidates for consideration for appointment to its Children's Health Protection Advisory Committee (CHPAC). EPA anticipates filling vacancies by March 1, 2026. EPA may use additional sources to solicit nominees.

DATES: Submit nominations by October 6, 2025 by email to chpac@epa.gov or mail to Becky Cook-Shyovitz, Alternate Designated Federal Officer, Office of Children's Health Protection, U.S. Environmental Protection Agency, Mail Code 1107T, 1200 Pennsylvania Avenue NW, Washington, DC 20460.

FOR FURTHER INFORMATION CONTACT: Becky Cook-Shyovitz, Alternate Designated Federal Officer, U.S. EPA; telephone (202) 564-4340 or chpac@epa.gov.

SUPPLEMENTARY INFORMATION:

Background: CHPAC is chartered under the Federal Advisory Committee Act (FACA), Public Law 92-463. EPA established this Committee in 1997 to provide independent advice to the EPA Administrator on a broad range of environmental issues affecting children's health.

The EPA Administrator appoints members for three-year terms with a cap on service at six years. The Committee meets 2-3 times annually and the average workload is approximately 10 to 15 hours per month. EPA provides reimbursement for travel and other incidental expenses associated with official government business, but members must be able to cover expenses prior to reimbursement.

The CHPAC is looking for representatives from industry; tribal, state, county and local government; school systems; academia; health care providers (including pediatricians, obstetric professionals, occupational medicine practitioners and community nurses); and non-governmental organizations.

The types of experience necessary includes: children's environmental health and development; epidemiology and toxicology; role of environmental chemicals in childhood diseases such as asthma, obesity and attention-deficit/hyperactivity disorder (ADHD); prenatal environmental exposures and adverse health outcomes; specific environmental exposures to chemicals such as lead, mercury and other heavy metals that adversely impact children's health; tribal children's environmental health; research; air quality (indoor and outdoor); water quality; EPA regulation development; risk assessment; exposure assessment; science policy; public health information tracking; and outreach and risk communication.

EPA is looking for background and experience that would contribute to the diversity of perspectives on the committee (e.g., geographic, economic, social, cultural, racial, ethnicity, educational, and other considerations).

Nominees must have the ability to volunteer time to attend meetings 2-3 times a year in Washington, DC, participate in teleconference meetings, develop recommendations to the EPA Administrator, and prepare reports and advice letters.

Nominations must include the following information:

• Brief statement describing the nominee's interest in serving on the CHPAC.

• Short biography (no more than one page) describing the professional and educational qualifications, including a list of relevant activities, and any current or previous service on federal advisory committees.

• Statement about the perspective the nominee brings to the committee.

• Current contact information for the nominee, including name, organization (and position within that organization), business address, email address, and telephone number.

• Candidates may self-nominate; one letter of support is welcome.

Rebecca Cook-Shyovitz,
Alternate Designated Federal Officer, Office of Children's Health Protection.

[FR Doc. 2025-14985 Filed 8-6-25; 8:45 am]

BILLING CODE 6560-50-P